DEPARTMENT OF ENERGY

Federal Energy Regulatory Commission

Combined Notice of Filings

July 1, 2009.

Take notice that the Commission has received the following Natural Gas Pipeline Rate and Refund Report filings:

Docket Numbers: RP01-245-029.

Applicants: Transcontinental Gas Pipeline Company LLC.

Description: Transcontinental Gas Pipe Line Company, LLC submits Third Revised Sheet 81 et al., to its FERC Gas Tariff, Fourth revised Volume 1.

Filed Date: 06/29/2009.

Accession Number: 20090630-0036.

Comment Date: 5 p.m. Eastern Time on Monday, July 13, 2009.

Docket Numbers: RP02-361-077.

Applicants: Gulfstream Natural Gas System, LLC.

Description: Gulfstream Natural Gas System, LLC submits Second Revised Sheet 8.01c to FERC Gas Tariff, Original Volume 1.

Filed Date: 06/29/2009.

Accession Number: 20090630-0009.

Comment Date: 5 p.m. Eastern Time on Monday, July 13, 2009.

Docket Numbers: RP09-739-001.

Applicants: Iroquois Gas Transmission System, L.P.

Description: Iroquois Gas Transmission System, L.P. Request for Additional Temporary Waiver of NAESB Standards and Extension of Time to comply with standard number 4.3.72.

Filed Date: 06/29/2009.

Accession Number: 20090629-5237.

Comment Date: 5 p.m. Eastern Time on Wednesday, July 8, 2009.

Docket Numbers: RP09-758-001.

Applicants: Southern Star Central Gas Pipeline, Inc.

Description: Southern Star Central Gas Pipeline, Inc submits Substitute Second Revised Sheet 133 to FERC Gas Tariff, Original Volume 1 to be effective 7/10/09.

Filed Date: 06/29/2009.

Accession Number: 20090630-0007.

Comment Date: 5 p.m. Eastern Time on Monday, July 13, 2009.

Docket Numbers: RP09-770-001.

Applicants: Western Gas Interstate Company.

Description: Western Gas Interstate Co. submits Seventh Revised Sheet 247 to FERC Gas Tariff, Fourth Revised Volume 1.

Filed Date: 06/29/2009.

Accession Number: 20090630-0010.

Comment Date: 5 p.m. Eastern Time on Monday, July 13, 2009.

Docket Numbers: RP97-13-036.

Applicants: East Tennessee Natural Gas, LLC.

Description: East Tennessee Natural Gas, LLC submits Original Sheet 38 and Sheets 39-100 to FERC Gas Tariff, Third Revised Volume 1.

Filed Date: 06/29/2009.

Accession Number: 20090630-0008.

Comment Date: 5 p.m. Eastern Time on Monday, July 13, 2009.

Docket Numbers: RP97-81-053.

Applicants: Kinder Morgan Interstate Gas Trans. LLC.

Description: Kinder Morgan Interstate Gas Transmission LLC submits Substitute First Revised Sheet 0 et al., to FERC Gas Tariff, Fourth Revised Volume 1-A, to be effective 8/1/09.

Filed Date: 06/26/2009.

Accession Number: 20090626-0100.

Comment Date: 5 p.m. Eastern Time on Wednesday, July 8, 2009.

Docket Numbers: RP09-8-002.

Applicants: Tuscarora Gas Transmission Company.

Description: Tuscarora Gas Transmission Company submits Substitute Original Sheet 10 et al., to FERC Gas Tariff, First Revised Volume 1, to be effective 7/1/09.

Filed Date: 06/23/2009.

Accession Number: 20090624-0007.

Comment Date: 5 p.m. Eastern Time on Monday, July 6, 2009.

Docket Numbers: RP09-148-001.

Applicants: Wyoming Interstate Company, Ltd.

Description: Wyoming Interstate Company, Ltd submits Sixth Revised Sheet 63A, & First Revised Sheet 63C to FERC Gas Tariff, Second Revised Volume 2, to be effective 6/12/09.

Filed Date: 06/26/2009.

Accession Number: 20090629-0101.

Comment Date: 5 p.m. Eastern Time on Wednesday, July 8, 2009.

Docket Numbers: RP09-668-001.

Applicants: Wyoming Interstate Company, Ltd.

Description: Wyoming Interstate Company, Ltd submits Substitute Eighth Revised Sheet 37D to FERC Gas Tariff, Second Revised Volume 2 pursuant to Order No. 587-T Compliance filing.

Filed Date: 06/08/2009.

Accession Number: 20090610-0065.

Comment Date: 5 p.m. Eastern Time on Monday, July 6, 2009.

Docket Numbers: RP01-382-019.

Applicants: Northern Natural Gas Company.

Description: Northern Natural Gas submits for filing its annual report setting forth the Carlton Resolution buyout and surcharge dollars reimbursed to the Carlton Sourcers.

Filed Date: 06/30/2009.

Accession Number: 20090630-5074.

Comment Date: 5 p.m. Eastern Time on Monday, July 13, 2009.

Docket Numbers: RP08-350-003.

Applicants: Southern Star Central Gas Pipeline, Inc.

Description: Southern Star Central Gas Pipeline submits Original Volume 1 et al., to be effective 11/1/08.

Filed Date: 06/30/2009.

Accession Number: 20090630-0060.

Comment Date: 5 p.m. Eastern Time on Monday, July 13, 2009.

Docket Numbers: RP96-272-094.

Applicants: Northern Natural Gas Company.

Description: Northern Natural Gas Company submits Tenth Revised Sheet No 66B 01a et al to its FERC Gas Tariff, Fifth Revised Volume No 1.

Filed Date: 06/30/2009.

Accession Number: 20090630-0059.

Comment Date: 5 p.m. Eastern Time on Monday, July 13, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis,
Deputy Secretary.

[FR Doc. E9-16264 Filed 7-8-09; 8:45 am]

BILLING CODE 6717-01-P